DEPARTMENT OF VETERANS AFFAIRS

38 CFR Part 3

RIN 2900-AN89

Secondary Service Connection for Diagnosable Illnesses Associated With Traumatic Brain Injury

Correction

In proposed rule document 2012-29709 beginning on page 73366 in the issue of Monday, December 10, 2012 make the following correction:

§ 3.310 [Corrected]

On page 73369, in § 3.310(d)(3)(i), the table should read as set forth below:

Mild | Moderate | Severe
Normal structural imaging | Normal or abnormal structural imaging | Normal or abnormal structural imaging.
LOC = 0-30 min | LOC >30 min and <24 hours | LOC >24 hrs.
AOC = a moment up to 24 hrs | AOC >24 hours. Severity based on other criteria.
PTA = 0-1 day | PTA >1 and <7 days | PTA > 7 days.
GCS = 13-15 | GCS = 9-12 | GCS = 3-8.
Note: The factors considered are:
Structural imaging of the brain.
LOC—Loss of consciousness.
AOC—Alteration of consciousness/mental state.
PTA—Post-traumatic amnesia.
GCS—Glasgow Coma Scale. (For purposes of injury stratification, the Glasgow Coma Scale is measured at or after 24 hours.)

[FR Doc. C1-2012-29709 Filed 5-14-13; 8:45 am]

BILLING CODE 1505-01-D